DEPARTMENT OF VETERANS AFFAIRS

[OMB Control No. 2900-0621]

Agency Information Collection Activities Under OMB Review

AGENCY: Veterans Health Administration, Department of Veterans Affairs

ACTION: Notice.

SUMMARY: In compliance with the Paperwork Reduction Act (PRA) of 1995 (44 U.S.C. 3501-21), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before May 31, 2005.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-0621.”

Send comments and recommendations concerning any aspect of the information collection to VA's OMB Desk Officer, OMB Human Resources and Housing Branch, New Executive Office Building, Room 10235, Washington, DC 20503 (202) 395-7316. Please refer to “OMB Control No. 2900-0621” in any correspondence.

SUPPLEMENTARY INFORMATION: Title: National Practitioner Data Bank Regulation.

OMB Control Number: 2900-0621.

Type of Review: Extension of a currently approved collection.

Abstract: The National Practitioner Data Bank, authorized by the Health Care Quality Improvement Act of 1986 and administered by the Department of Health and Human Services, was established for the purpose of collecting and releasing certain information concerning physicians, dentists, and other licensed health care practitioners. The Act requires VA to obtain information from the Data Bank on health care providers who provide or seek to provide health care services at VA facilities and report information regarding malpractice payments and adverse clinical privileges action to the Data Bank.

VA Form 10-0376a is used to collect data to determine healthcare professionals qualifications and suitability for employment in VA's healthcare facilities.

An agency may not conduct or sponsor, and a person is not required to respond to a collection of information unless it displays a currently valid OMB control number. The Federal Register Notice with a 60-day comment period soliciting comments on this collection of information was published on December 1, 2004, at pages 69992-69993.

Estimated Average Burden Per Respondent:

a. National Practitioner Data Bank Regulations—5 hours.

b. Credentials Transfer Brief, VA Form 10-0376a—1 hour.

Frequency of Response: On occasion.

Estimated Number of Respondents:

a. National Practitioner Data Bank Regulations—350.

b. Credentials Transfer Brief, VA Form 10-0376a—1,000.

Dated: April 13, 2005.
By direction of the Secretary:
Cindy Stewart,
Program Analyst, Records Management Service.

[FR Doc. E5-1998 Filed 4-27-05; 8:45 am]

BILLING CODE 8320-01-P